DEPARTMENT OF ENERGY

Federal Energy Regulatory Commission

Combined Notice of Filings

Take notice that the Commission has received the following Natural Gas Pipeline Rate and Refund Report filings:

Filings Instituting Proceedings

Docket Numbers: RP12-376-000.

Applicants: Eastern Shore Natural Gas Company.

Description: RP10-1083-005 Revised Compliance Filing to be effective 7/29/2011.

Filed Date: 2/9/12.

Accession Number: 20120209-5109.

Comments Due: 5 pm ET 2/21/12.

Docket Numbers: RP12-377-000.

Applicants: Transcontinental Gas Pipe Line Company, LLC.

Description: Transcontinental Gas Pipe Line Company, LLC submits tariff filing per 154.203: Compliance Filing—Update Volume No. 2 Table of Contents to be effective 1/31/2012.

Filed Date: 2/10/12.

Accession Number: 20120210-5058.

Comments Due: 5 pm ET 2/22/12.

Any person desiring to intervene or protest in any of the above proceedings must file in accordance with Rules 211 and 214 of the Commission's Regulations (18 CFR 385.211 and 385.214) on or before 5 pm Eastern time on the specified comment date. Protests may be considered, but intervention is necessary to become a party to the proceeding.

Filings in Existing Proceedings

Docket Numbers: RP11-1657-001.

Applicants: Questar Southern Trails Pipeline Company.

Description: Compliance Filing RP11-1657/RP10-388 to be effective 6/28/2010.

Filed Date: 2/9/12.

Accession Number: 20120209-5135.

Comments Due: 5 pm ET 2/21/12.

Docket Numbers: RP11-1957-004.

Applicants: Stingray Pipeline Company, L.L.C.

Description: Motion to Place Rates Into Effect to be effective 1/1/2012.

Filed Date: 2/9/12.

Accession Number: 20120209-5136.

Comments Due: 5 pm ET 2/13/12.

Docket Numbers: RP11-1674-002.

Applicants: Florida Gas Transmission Company, LLC.

Description: Compliance with RP11-1674-000 to be effective 1/20/2012.

Filed Date: 2/6/12.

Accession Number: 20120206-5071.

Comments Due: 5 pm ET 2/21/12.

Docket Numbers: RP11-1855-001.

Applicants: Florida Gas Transmission Company, LLC.

Description: Compliance with RP11-1855-000 to be effective 3/9/2012.

Filed Date: 2/6/12.

Accession Number: 20120206-5115.

Comments Due: 5 pm ET 2/21/12.

Any person desiring to protest in any of the above proceedings must file in accordance with Rule 211 of the Commission's Regulations (18 CFR 385.211) on or before 5 pm Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: February 10, 2012.
Nathaniel J. Davis, Sr.,
Deputy Secretary

[FR Doc. 2012-3623 Filed 2-15-12; 8:45 am]

BILLING CODE 6717-01-P